DEPARTMENT OF TRANSPORTATION

Federal Aviation Administration

14 CFR Part 71

[Docket No. FAA-2015-7483; Airspace Docket No. 15-AGL-23]

Amendment of Class E Airspace for the Following Michigan Towns; Alpena, MI; and Muskegon, MI

AGENCY: Federal Aviation Administration (FAA), DOT.

ACTION: Final rule; correction.

SUMMARY: This correction amends a final rule published in the Federal Register of February 8, 2016 amending Class E surface area airspace and Class E airspace designated as an extension at Alpena County Regional Airport, Alpena, MI, and Muskegon County Airport, Muskegon, MI. This correction adds part-time Notice to Airmen (NOTAM) language to the Class E surface area description for the above airports.

DATES: Effective 0901 UTC, April 5, 2016. The compliance date for this rule is March 31, 2016. The Director of the Federal Register approves this incorporation by reference action under Title 1, Code of Federal Regulations, part 51, subject to the annual revision of FAA Order 7400.9 and publication of conforming amendments.

FOR FURTHER INFORMATION CONTACT: Jeffrey Claypool, Federal Aviation Administration, Operations Support Group, Central Service Center, 10101 Hillwood Parkway, Fort Worth, TX 76177; telephone (817) 222-5711.

SUPPLEMENTARY INFORMATION:

History

The Federal Register published a final rule amending Class E airspace at Alpena County Regional Airport, Alpena, MI, and Muskegon County Airport, Muskegon, MI (81 FR 6447, February 8, 2016) Docket No. FAA-2015-7483. Subsequent to publication, the FAA determined that the part-time NOTAM language in the Class E surface area description was inadvertently removed in error. Potential safety concerns were identified due to the possibility for confusion in determining the operating rules and equipment requirements in the Alpena Country Regional Airport and Muskegon Country Airport terminal areas. The concerns were based on the opportunity for part-time Class D surface area airspace and continuous Class E surface area airspace to be active at the same time.

To resolve these concerns, the FAA is keeping the part-time NOTAM language in the Class E surface area description to retain it as part-time airspace supplementing the existing part-time Class D surface area airspace at Alpena Country Regional Airport and Muskegon Country Airport. The regulatory text is rewritten for clarity.

Correction to Final Rule

Accordingly, pursuant to the authority delegated to me, in the Federal Register of February 8, 2016 (81 FR 6447) FR Doc. 2016-02285, Amendment of Class E Airspace for the Following Michigan Towns; Alpena, MI, and Muskegon, MI, is corrected as follows:

§ 71.1 [Amended]

AGL MI E2 Alpena, MI [Corrected]

On page 6448, column 2, beginning on line 32, remove the following text:

“Within a 4.4-mile radius of the Alpena County Regional Airport, and within 2.5 miles each side of the Alpena VORTAC 350° radial, extending from the 4.4-mile radius of the airport to 7 miles north of the VORTAC, and within 2.5 miles each side of the Alpena VORTAC 187° radial, extending from the 4.4-mile radius of the airport to 7 miles south of the VORTAC.”

And add in its place:

“Within a 4.4-mile radius of the Alpena County Regional Airport, and within 2.5 miles each side of the Alpena VORTAC 350° radial, extending from the 4.4-mile radius of the airport to 7 miles north of the VORTAC, and within 2.5 miles each side of the Alpena VORTAC 187° radial, extending from the 4.4-mile radius of the airport to 7 miles south of the VORTAC. This Class E airspace is effective during the specific dates and times established in advance by a Notice to Airmen. The effective date and time will thereafter be continuously published in the Airport/Facility Directory.”

AGL MI E2 Muskegon, MI [Corrected]

On page 6448, column 2, beginning on line 44, remove the following text:

“Within a 4.2-mile radius of the Muskegon County Airport and within 1.3 miles each side of the Muskegon VORTAC 271° radial extending from the VORTAC to the 4.2-mile radius of Muskegon County Airport.”

And add in its place:

“Within a 4.2-mile radius of the Muskegon County Airport and within 1.3 miles each side of the Muskegon VORTAC 271° radial extending from the VORTAC to the 4.2-mile radius of the Muskegon County Airport. This Class E airspace area is effective during the specific dates and times established in advance by a Notice to Airman. The effective date and time will thereafter be continuously published in the Airport/facility Directory.”

Issued in Fort Worth, Texas, on March 28, 2016.
Robert W. Beck,
Manager, Operations Support Group, ATO Central Service Center.

[FR Doc. 2016-07717 Filed 3-31-16; 4:15 pm]

BILLING CODE 4910-13-P